DEPARTMENT OF ENERGY

Federal Energy Regulatory Commission

[Project No. 13214-003]

Lock 12 Hydro Partners; Notice of Application Tendered for Filing With the Commission and Soliciting Additional Study Requests

Take notice that the following hydroelectric application has been filed with the Commission and is available for public inspection.

a. Type of Application: Major License (5 Megawatts or less).

b. Project No.: 13214-003.

c. Date filed: May 16, 2012.

d. Applicant: Lock 12 Hydro Partners, LLC.

e. Name of Project: Ravenna Hydroelectric Project.

f. Location: On the Kentucky River, near the Town of Ravenna, Estill County Kentucky. Lands managed by the Federal government are located within the project boundary.

g. Filed Pursuant to: Federal Power Act 16 U.S.C. 791(a)—825(r).

h. Applicant Contact: David Brown Kinloch, Lock 12 Hydro Partners, 414 S. Wenzel Street, Louisville, Kentucky 40204, (502) 589-0975.

i. FERC Contact: Michael Spencer, (202) 502-6093, michael.spencer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 15, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The Ravenna Project consists of: (1) An existing concrete lock and dam; (2) an existing 345-acre reservoir having a storage capacity of 3,450-acre-feet; (3) a powerhouse within the abandoned lock chamber containing four generating units for a total installed capacity of 2,640 kilowatts; and (4) a 1,500-foot-long, 12.47 kilo-Volt transmission line. The project is estimated to generate an average of 10,673,000 kilowatt-hours annually. The dam and existing project facilities are owned by the Kentucky River Authority.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Kentucky State Historic Preservation Officer (SHPO), as required by section 106 of the National Historic Preservation Act and the regulations of the Advisory Council on Historic Preservation, 36 CFR 800.4.

q. Procedural schedule: The application will be processed according to the following preliminary Hydro Licensing Schedule. Revisions to the schedule will be made as appropriate.

Issue Notice of Acceptance—July 2012

Issue Scoping Document 1 for comments—August 2012

Comments on Scoping Document 1—October 2012

Issue Scoping Document 2—January 2013

Issue notice of ready for environmental analysis—January 2013

Commission issues EA, draft EA, or draft EIS—July 2013

Comments on EA or draft EA or draft EIS—August 2013

Commission issues final EA or final EIS—October 2013

Dated: May 24, 2012.
Kimberly D. Bose,
Secretary.

[FR Doc. 2012-13269 Filed 5-31-12; 8:45 am]

BILLING CODE 6717-01-P